DEPARTMENT OF TRANSPORTATION

Federal Aviation Administration

14 CFR Part 39

[Docket No. FAA-2025-1360; Project Identifier AD-2024-00710-Q,T]

RIN 2120-AA64

Airworthiness Directives; Goodrich Cabin Attendant Seats

AGENCY: Federal Aviation Administration (FAA), DOT.

ACTION: Notice of proposed rulemaking (NPRM).

SUMMARY: The FAA proposes to adopt a new airworthiness directive (AD) for Goodrich cabin attendant seats installed on Airbus SAS Model A330-200 series, A330-200 Freighter series, A330-300 series, A330-841, A330-941, A340-200 series, A340-300 series, A340-541, and A340-642 airplanes. This proposed AD was prompted by a report that track attachments used on certain part-numbered seats are non-compliant. This proposed AD would require replacing all seat track attachments and hardware and re-identifying the seat with a new part number. The FAA is proposing this AD to address the unsafe condition on these products.

DATES: The FAA must receive comments on this proposed AD by August 25, 2025.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-1360; or in person at Docket Operations between 9 a.m. and 5 p.m., Monday through Friday, except Federal holidays. The AD docket contains this NPRM, any comments received, and other information. The street address for Docket Operations is listed above.

Material Incorporated by Reference:

• For Goodrich material identified in this proposed AD, contact Goodrich Aircraft Interior Products, 1275 North Newport Road, Colorado Springs, CO 80916-2779; phone: 719-380-0391; email: INTTechPub@collins.com; website: collinsaerospace.com.

• You may view this material at the FAA, Airworthiness Products Section, Operational Safety Branch, 2200 South 216th St., Des Moines, WA. For information on the availability of this material at the FAA, call 206-231-3195.

FOR FURTHER INFORMATION CONTACT: Thanh-Phuong Ta, Aviation Safety Engineer, FAA, 3960 Paramount Boulevard, Lakewood, CA 90712; phone: 303-342-1095; email: Thanh-Phuong.T.Ta@faa.gov.

SUPPLEMENTARY INFORMATION:

Comments Invited

The FAA invites you to send any written relevant data, views, or arguments about this proposal. Send your comments using a method listed under the ADDRESSES section. Include “Docket No. FAA-2025-1360; Project Identifier AD-2024-00710-Q,T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Thanh-Phuong Ta, Aviation Safety Engineer, FAA, 3960 Paramount Boulevard, Lakewood, CA 90712; phone: 303-342-1095; email: Thanh-Phuong.T.Ta@faa.gov. Any commentary that the FAA receives that is not specifically designated as CBI will be placed in the public docket for this rulemaking.

Background

The FAA has received a report from Goodrich Corporation Interiors that track attachments used on certain part-numbered cabin attendant seats are not compliant with the requirement for the seats to withstand a dynamic load of 16 times the force of gravity (16g) in an accident per Technical Standard Order TSO-C127(a) and 14 CFR 25.562(b). These seats are installed on Airbus SAS Model A330-201, -202, -203, -223, -243, -223F, -243F, -301, -302, -303, -321, -322, -323, -341, -342, -343, -841, and -941 airplanes, and Model A340-211, -212, -213, -311, -312, -313, -541, and -642 airplanes. Due to flawed analysis and incomplete testing that did not consider the dynamic strength and geometry of the cast track attachments, the cabin attendant seat may detach from the airplane. This condition, if not addressed, could result in injury to the occupant or a blocked exit during an emergency evacuation.

FAA's Determination

The FAA is issuing this NPRM after determining that the unsafe condition described previously is likely to exist or develop on other products of the same type design.

Material Incorporated by Reference Under 1 CFR Part 51

The FAA reviewed the following material:

• Goodrich Service Bulletin 2057-25-071, Revision A, dated November 27, 2017;

• Goodrich Service Bulletin 2071-25-046, Revision C, dated January 14, 2020;

• Goodrich Service Bulletin 2157-25-092, Revision C, dated May 18, 2022; and

• Goodrich Service Bulletin 2201-25-013, Revision E, dated May 20, 2024.

This material specifies procedures for replacing all seat track attachments and hardware and then re-identifying the seat with a new part number. These documents are distinct since they apply to different airplane configurations.

This material is reasonably available because the interested parties have access to it through their normal course of business or by the means identified in the ADDRESSES section.

Proposed AD Requirements in This NPRM

This proposed AD would require accomplishing the actions specified in the material already described, except for any differences identified as exceptions in the regulatory text of this proposed AD. See “Differences Between this Proposed AD and the Referenced Material” for a discussion of these differences.

Difference Between This Proposed AD and the Referenced Material

Although Goodrich Service Bulletins 2057-25-071, 2071-25-046, 2157-25-092, and 2201-25-013 recommend replacing the seat track attachments within 4 years, this proposed AD would require replacing them within 2 years. The FAA has determined that replacement within 4 years would not ensure an adequate level of safety for the affected fleet. In developing an appropriate compliance time for this AD, the FAA considered the manufacturer's recommendation, the degree of urgency associated with the subject unsafe condition, the average utilization of the affected fleet, and the time necessary to replace the seat track attachments. In light of these factors, the FAA finds a 2-year compliance time appropriate for affected airplanes to continue to operate without compromising safety.

Costs of Compliance

The FAA estimates that this AD, if adopted as proposed, would affect 59 airplanes of U.S. registry. The FAA estimates the following costs to comply with this proposed AD:

Estimated Costs
Action | Labor cost | Parts cost | Cost per product | Cost on U.S. operators
Replacement and seat reidentification | 15 work-hours × $85 per hour = $1,275 | $1,500 | $2,775 | $163,725

The FAA has included all known costs in its cost estimate. According to the manufacturer, however, some or all of the costs of this proposed AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Goodrich: Docket No. FAA-2025-1360; Project Identifier AD-2024-00710-Q,T.

(a) Comments Due Date

The FAA must receive comments on this airworthiness directive (AD) by August 25, 2025.

(b) Affected ADs

None.

(c) Applicability

This AD applies to Goodrich cabin attendant seats, part numbers 2057-11XXXXXX with floor seating option, except for 2057-1 hard point mounted seats; 2201-1XXYY and -2XXYY; 2157-7XXXXXXX and -9XXXXXXX; and 2071-2XXXX and -A2XXXX. These seats are installed on the Airbus SAS airplanes, certificated in any category, listed in paragraphs (c)(1) and (2) of this AD.

(1) Model A330-201, -202, -203, -223, -243, -223F, -243F, -301, -302, -303, -321, -322, -323, -341, -342, -343, -841, and -941 airplanes.

(2) Model A340-211, -212, -213, -311, -312, -313, -541, and -642 airplanes.

(d) Subject

Air Transport Association (ATA) of America Code 25, Equipment/furnishings.

(e) Unsafe Condition

This AD was prompted by a report that track attachments used on certain cabin attendant seats are non-compliant. The FAA is issuing this AD to prevent the cabin attendant seat from detaching from the airplane. The unsafe condition, if not addressed, could result in injury to the occupant or a blocked exit during an emergency evacuation.

(f) Compliance

Comply with this AD within the compliance times specified, unless already done.

(g) Seat Track Attachment Replacement

Within 2 years after the effective date of this AD, replace the seat track attachments and hardware and re-identify the seat with a new part number in accordance with the applicable service information identified in paragraphs (g)(1) through (4) of this AD, except you are not required to discard parts. Instead, remove those parts from service.

(1) Goodrich Service Bulletin 2057-25-071, Revision A, dated November 27, 2017.

(2) Goodrich Service Bulletin 2071-25-046, Revision C, dated January 14, 2020.

(3) Goodrich Service Bulletin 2157-25-092, Revision C, dated May 18, 2022.

(4) Goodrich Service Bulletin 2201-25-013, Revision E, dated May 20, 2024.

(h) Credit for Previous Actions

This paragraph provides credit for the actions required by paragraph (g) of this AD, if those actions were performed before the effective date of this AD using Goodrich Service Bulletin 2071-25-046, Revision B, dated December 10, 2019, or Goodrich Service Bulletin 2157-25-092, Revision B, dated January 12, 2021.

(i) Alternative Methods of Compliance (AMOCs)

The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the Continued Operational Safety Branch, send it to the attention of the person identified in paragraph (j)(1) of this AD. Information may be emailed to: AMOC@faa.gov. Before using any approved AMOC, notify your appropriate principal inspector, or lacking a principal inspector, the manager of the responsible Flight Standards Office.

(j) Related Information

(1) For more information about this AD, contact Thanh-Phuong Ta, Aviation Safety Engineer, FAA, 3960 Paramount Boulevard, Lakewood, CA 90712; phone: 303-342-1095; email: Thanh-Phuong.T.Ta@faa.gov.

(2) Material identified in this AD that is not incorporated by reference is available at the address specified in paragraph (k)(3) of this AD.

(k) Material Incorporated by Reference

(1) The Director of the Federal Register approved the incorporation by reference of the material listed in this paragraph under 5 U.S.C. 552(a) and 1 CFR part 51.

(2) You must use this material as applicable to do the actions required by this AD, unless the AD specifies otherwise.

(i) Goodrich Service Bulletin 2057-25-071, Revision A, dated November 27, 2017.

(ii) Goodrich Service Bulletin 2071-25-046, Revision C, dated January 14, 2020.

(iii) Goodrich Service Bulletin 2157-25-092, Revision C, dated May 18, 2022.

(iv) Goodrich Service Bulletin 2201-25-013, Revision E, dated May 20, 2024.

(3) For Goodrich material identified in this AD, contact Goodrich Aircraft Interior Products, 1275 North Newport Road, Colorado Springs, CO 80916-2779; phone: 719-380-0391; email: INTTechPub@collins.com; website: collinsaerospace.com.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on July 9, 2025.
Lona C. Saccomando,
Acting Deputy Director, Integrated Certificate Management Division, Aircraft Certification Service.

[FR Doc. 2025-13007 Filed 7-10-25; 8:45 am]

BILLING CODE 4910-13-P